FEDERAL COMMUNICATIONS COMMISSION

47 CFR Part 64

[CG Docket No. 03-123 and WC Docket No. 05-196; FCC 08-210]

Telecommunications Relay Services and Speech-to-Speech Services for Individuals With Hearing and Speech Disabilities; E911 Requirements for IP-Enabled Service Providers

AGENCY: Federal Communications Commission.

ACTION: Final rule; petition for waiver.

SUMMARY: In this document, the Commission grants a petition for limited waiver filed by Sorenson Communications, Inc. (Sorenson). The waiver allows Sorenson, and all other Video Relay Service (VRS) providers, prior to the implementation of new emergency call handling rules, to deliver to the appropriate emergency response authorities, at the outset of the outbound leg of an emergency VRS call, the caller's North American Numbering Plan (NANP) callback number, when known to the provider, rather than the callback number of the Communications Assistant (CA). The Commission also reiterates its requirement that VRS providers implement a system to ensure that all incoming emergency calls (including callbacks from emergency personnel) are answered by the provider before non-emergency calls.

DATES: Effective September 19, 2008, the limited waiver shall expire as of December 31, 2008.

FOR FURTHER INFORMATION CONTACT: Gregory Hlibok, Consumer and Governmental Affairs Bureau, Disability Rights Office at (800) 311-4381 (voice) or e-mail at Gregory.Hlibok@fcc.gov.

SUPPLEMENTARY INFORMATION: This is a summary of the Commission's Telecommunications Relay Services and Speech-to-Speech Services for Individuals with Hearing and Speech Disabilities; E911 Requirements for IP-Enabled Service Providers, CG Docket No. 03-123 and WC Docket No. 05-196, Order, document FCC 08-210, adopted September 15, 2008, and released September 19, 2008, granting a petition filed by Sorenson for limited waiver of interim 47 CFR 64.605(c), which was adopted by the Commission in Telecommunications Relay Services and Speech-to-Speech Services for Individuals with Hearing and Speech Disabilities; E911 Requirements for IP-Enabled Service Providers, CG Docket No. 03-123 and WC Docket No. 05-196, Report and Order, document FCC 08-78 (Interim Emergency Call Handling Order), published at 73 FR 21252, April 21, 2008. The full text of document FCC 08-210 will be available for public inspection and copying during regular business hours at the FCC Reference Information Center, Portals II, 445 12th Street, SW., Room CY-A257, Washington, DC 20554. Document FCC 08-210 and copies of subsequently filed documents in this matter also may be purchased from the Commission's duplicating contractor at Portals II, 445 12th Street, SW., Room CY-B402, Washington, DC 20554. Customers may contact the Commission's duplicating contractor at its Web site, http://www.bcpiweb.com, or by calling 1-800-378-3160. Document FCC 08-210 also can be downloaded in Word or Portable Document Format (PDF) at: http://www.fcc.gov/cgb/dro/trs.html.

To request materials in accessible formats for people with disabilities (Braille, large print, electronic files, audio format), send an e-mail to fcc504@fcc.gov or call the Consumer and Governmental Affairs Bureau at (202) 418-0530 (voice) or (202) 418-0432 (TTY).

Paperwork Reduction Act of 1995 Analysis

Document FCC 08-210 does not contain new or modified information collection requirements subject to the Paperwork Reduction Act of 1995, Public Law 104-13. In addition, therefore, it does not contain any new or modified information collection burden “for small business concerns with fewer than 25 employees,” pursuant to the Small Business Paperwork Relief Act of 2002, Public Law 107-198, see 44 U.S.C. 3506(c)(4).

Synopsis

1. In the Interim Emergency Call Handling Order, the Commission addressed the emergency call handling obligations of Internet-based Telecommunications Relay Services (TRS) providers. Pending adoption by the Commission of a longer term emergency call handling solution, the Commission adopted interim requirements for Internet-based TRS providers to ensure access to emergency services for consumers of Internet-based relay services. Among these interim requirements is 47 CFR 64.605(c), which requires Internet-based TRS providers, at the outset of the outbound leg of an emergency TRS call, to deliver to emergency response authorities the callback number of the TRS provider's CA, thereby enabling emergency response personnel to re-establish contact with the CA in the event the call is disconnected. Pursuant to the subsequent Telecommunications Relay Services and Speech-to-Speech Services for Individuals with Hearing and Speech Disabilities; E911 Requirements for IP-Enabled Service Providers, CG Docket No. 03-123 and WC Docket No. 05-196, Report and Order and Further Notice of Proposed Rulemaking, document FCC 08-151 (Internet-based TRS Numbering Order), published at 73 FR 41286, July 18, 2008, as of December 31, 2008, this requirement will no longer apply and will be superseded by the new emergency call handling rules adopted in that order.

2. On July 11, 2008, Sorenson filed a petition for limited waiver of interim 47 CFR 64.605(c) seeking authority so that prior to December 31, 2008, when the caller's NANP callback number is known, Sorenson may deliver it to the appropriate emergency response authorities at the outset of the outbound leg of an emergency VRS call, instead of providing the CA's callback number. Because the Commission finds this to be a more efficient method of ensuring that emergency response personnel can re-establish contact with an emergency caller if the call has been disconnected, and because this approach more closely approximates the callback information that the Commission will require under its final emergency call handling rules for Internet-based forms of TRS, the Commission grants the limited waiver of interim 47 CFR 64.605(c) that is requested by Sorenson, and applies it to all VRS providers. The Commission also reiterates its requirement that VRS providers implement a system to ensure that all incoming emergency calls (including callbacks from emergency personnel) are answered by the provider before non-emergency calls.

3. Background. The measures adopted in the Interim Emergency Call Handling Order were designed to ensure that persons using Internet-based forms of TRS can promptly access emergency services, until such time that Internet-based TRS providers can immediately and automatically place the outbound leg of an emergency call to an appropriate public safety answering point (PSAP), designated statewide default answering point, or appropriate local emergency authority (collectively EAs). The Commission required Internet-based TRS providers, at the outset of the outbound leg of an emergency call, to deliver to emergency response authorities, at a minimum, the name of the relay user and location of the emergency, as well as the name of the relay provider, the CA's callback number, and the CA's identification number, thereby enabling the emergency response authority to re-establish contact with the CA if the call is disconnected. One key provision of the Internet-based TRS Numbering Order, however, is to have VRS and IP Relay providers transmit the Automatic Number Identification (ANI) of the caller (i.e., the callback number of the calling party) to the emergency response personnel rather than having Internet-based TRS providers transmit to emergency response personnel the callback number of the CA as required under the current interim rules.

4. In its waiver petition, Sorenson asserts that providing to emergency authorities the ten-digit NANP number of an emergency VRS caller represents a more efficient method of re-establishing contact with that caller if the initial call becomes disconnected, by enabling emergency response personnel to re-establish relayed communications directly with the caller by dialing the user's toll-free number rather than going through the intermediate step of calling back the same CA. Sorenson contends this procedure would serve the public interest by facilitating the more rapid callback in this situation, and by “effectively implement[ing],” ahead of the December 31st deadline, the requirement set forth in the Internet-based TRS Numbering Order that VRS and IP Relay providers transmit the caller's ANI, rather than the CA's callback number, at the outset of the outbound leg of an emergency VRS call.

5. Discussion. The Commission finds good cause has been demonstrated to grant Sorenson's request for a limited waiver of interim 47 CFR 64.605(c), as well as to extend the waiver to similarly situated VRS providers. First, as Sorenson correctly notes, the Commission's goal in adopting interim 47 CFR 64.605(c) was to ensure that emergency response personnel have a means of re-establishing contact with an Internet-based relay user whose emergency call has been disconnected. Although it was logical for the Commission in its Interim Emergency Call Handling Order to require providers to deliver the callback number of the CA, rather than of the user (since many VRS and IP Relay users do not yet have unique ten-digit NANP numbers and therefore cannot be reached directly by dialing a ten-digit number), where a relay user does have a unique ten-digit NANP number, such as the toll-free NANP numbers provided to Sorenson users, the Commission finds no reason why this number should not be provided to emergency response authorities at the outset of the outbound leg of an emergency call. Indeed, to the extent that a callback via a user's ten-digit NANP number is given priority call handling and does not necessitate re-establishing contact with the specific CA who handled the original emergency call (who himself may be experiencing technical or other difficulties), the Commission agrees that the approach described by Sorenson represents a more efficient method of re-establishing contact with the emergency caller. Therefore, where an emergency caller can be reached directly via a ten-digit NANP callback number, the Commission finds that it is in the public interest to permit VRS providers to provide this number to emergency response personnel. Second, as Sorenson also notes, where an emergency VRS caller can be reached directly via a unique, ten-digit NANP number, providing this callback number to emergency response personnel more closely approximates the callback approach adopted by the Commission in the recent Internet-based TRS Numbering Order.

9. In sum, the Commission finds that the record supports granting all VRS providers a waiver of interim 47 CFR 64.605(c)'s requirement that the CA deliver to emergency response authorities, at the outset of the call, the CA's callback number, to the extent that the VRS CA can deliver, instead, the VRS caller's unique ten-digit NANP callback number. The Commission reiterates, however, its requirement that VRS providers implement a system to ensure that all incoming emergency calls (including callbacks from emergency personnel) are answered by the provider before non-emergency calls. The Commission also recognizes that a callback from emergency personnel may be handled by a CA other than the CA who handled the initial 911 call from the emergency caller. The Commission expects providers will have in place a procedure by which they will obtain from the first CA all information relevant to the emergency, including any information that he or she obtained during the course of the initial call but that was not conveyed, and that the provider will transmit this information to the appropriate emergency personnel. Finally, because the provision of interim 47 CFR 64.605(c) waived herein terminates as of December 31, 2008, the waiver granted herein to VRS providers shall also terminate on that date.

Congressional Review Act

The Commission will not send a copy of the Order pursuant to the Congressional Review Act, see 5 U.S.C. 801(a)(1)(A), because the rule subject to the limited waiver was previously adopted and subject to a CRA submission at that juncture.

Ordering Clauses

Pursuant to section 225 of the Communications Act of 1934, as amended, 47 U.S.C. 225, and 47 CFR 0.141, 0.361, and 1.3, the Order is adopted.

The petition for limited waiver of interim 47 CFR 64.605(c), filed by Sorenson on July 11, 2008, is granted to the extent described above and is extended to all VRS providers.

The limited waiver of interim 47 CFR 64.605(c) shall expire as of December 31, 2008.

Federal Communications Commission.
Marlene H. Dortch,
Secretary.

[FR Doc. E8-25192 Filed 10-22-08; 8:45 am]

BILLING CODE 6712-01-P